FEDERAL COMMUNICATIONS COMMISSION

Revised Sunshine Notice*; Open Commission Meeting Wednesday, December 12, 2001

December 11, 2001.

The Federal Communications Commission will hold an Open Meeting on the subjects listed below on Wednesday, December 12, 2001, which is scheduled to commerce at 9:30 a.m. in Room TW-C305, at 445 12th Street, SW., Washington, DC.

Item No. and Bureau | Subject
1 Common Carrier | *Revised Title: Review of Regulatory Requirements for Incumbent LEC Broadband Telecommunications Services; SBC Petition for Expedited Ruling That it is Non-Dominant in its Provision of Advanced Services and for Forbearance from Dominant Carrier Regulation of Those Services.
| Revised Summary: The Commission will consider a Notice of Proposed Rule Making initiating a comprehensive examination of the appropriate regulatory requirements for incumbent LECs' provision of broadband services. As part of this proceeding, the Commission also invites comment on the Petition filed by SBC Communications, Inc.
2 Common Carrier | Title: Review of the Section 251 Unbundling Obligations of Incumbent Local Exchange Carriers; Implementation of the Local Competition Provisions of the Telecommunications Act of the 1996 (CC Docket No. 96-98); and Deployment of Wireline Services Offering Advanced Telecommunications Capability (CC Docket No. 98-147).
| Summary: The Commission will consider a Notice of Proposed Rule Making to initiate its “triennial” review of the definitions of and rules concerning access to incumbent LEC unbundled network elements.
3 Common Carrier | Title: Numbering Resource Optimization (CC Docket No. 99-200); Petition for Declaratory Ruling and Request For Expedited Action on the July 15, 1997 Order of the Pennsylvania Public Utility Commission Regarding Area Codes 412, 610, 215, and 717 (CC Docket No. 96-98); and Telephone Number Portability (CC Docket No. 95-116).
| Summary: The Commission will consider a Third Report and Order and Second Order on Reconsideration in CC Docket No. 96-98 and CC Docket No. 99-200 regarding plans for nationwide thousands-block number pooling and other strategies to ensure that the numbering resources of the North American Numbering Plan are used efficiently.
4 Mass Media | Title: Review of the Commission's Broadcast and Cable Equal Employment Opportunity Rules and Policies (MM Docket No. 98-204).
| Summary: The Commission will consider a Second Notice of Proposed Rule Making concerning new equal employment opportunity rules for broadcast licensees and cable entities.
5 Office of Engineering and Technology and Wireless Telecommunications | Title: Reallocation and Service Rules for the 698-746 MHz Spectrum Band (Television Channels 52-59) (GN Docket No. 01-74).
| Summary: The Commission will consider a Report and Order concerning allocation and service rules to reallocate television channels 52-59, pursuant to the Balanced Budget Act of 1997.
6 Office of Engineering and Technology | Title: Revision of part 15 of the Commission's Rules Regarding Ultra-Wideband Transmission System (ET Docket No. 98-153).
| Summary: The Commission will consider a First Report and Order to provide for new ultra-wideband devices.

Additional information concerning this meeting may be obtained from Maureen Peratino or David Fiske, Office of Media Relations, telephone number (202) 418-0500; TTY 1-888-835-5322.

Copies of materials adopted at this meeting can be purchased from the FCC's duplicating contractor, Qualex International (202) 863-2893; Fax (202) 863-2898; TTY (202) 863-2897. These copies are available in paper format and alternative media, including large print/type; digital disk; and audio tape. Qualex International may be reached by e-mail at Qualex@apl.com

This meeting can be viewed over George Mason University's Capitol Connection. The Capitol Connection also will carry the meeting live via the Internet. For information on these services call (703) 993-3100. The audio portion of the meeting will be broadcast live on the Internet via the FCC's Internet audio broadcast past at <http://www.fcc.gov/realaudio/>. The meeting can also be heard via telephone, for a fee, from National Narrowcast Network, telephone (202) 966-2211 of fax (202) 966-1770. Audio and video tapes of this meeting can be purchased from Infocus, 341 Victory Drive, Herndon, VA 20170, telephone (703) 834-1470, Ext. 10; fax number (703) 834-0111.

Federal Communications Commission.
Magalie Roman Salas,
Secretary.

[FR Doc. 01-30987 Filed 12-12-01; 12:00 pm]

BILLING CODE 6712-01-M